DEPARTMENT OF STATE

[Public Notice 10646]

Notice of Information Collection Under OMB Emergency Processing; Three Information Collections Related to the United States Munitions List, Categories I, II and III

ACTION: Notice of request for emergency OMB approval and public comment.

SUMMARY: The Department of State has submitted the information collection request described below to the Office of Management and Budget (OMB) for review and approval in accordance with the emergency processing procedures of the Paperwork Reduction Act of 1995. The purpose of this notice is to allow for public comment from all interested individuals and organizations. Emergency processing and approval of this collection has been requested from OMB by April 1, 2019. If granted, the emergency approval is only valid for 90 days.

ADDRESSES: Direct any comments on this emergency request to both the Department of State Desk Officer in the Office of Information and Regulatory Affairs at the Office of Management and Budget (OMB) and to PM/DDTC. All public comments must be received by February 24, 2019.

You may submit comments to OMB by the following methods:

• Email: oira_submission@omb.eop.gov. You must include the DS form number, information collection title, and OMB control number in the subject line of your message.

• Fax: 202-395-5806. Attention: Desk Officer for Department of State.

You may submit comments to PM/DDTC by the following methods:

• Web: Persons with access to the internet may comment on this notice by going to www.Regulations.gov. You can search for the document by entering “Docket Number: DOS-2018-0063” in the Search field. Then click the “Comment Now” button and complete the comment form.

• Email: DDTCPublicComments@state.gov, You must include Emergency Submission Comment on “information collection title” in the subject line of your message.

• Regular Mail: Send written comments to: PM/DDTC 2401 E Street NW, Washington, DC 20037 H1204-3.

You must include the DS form number (if applicable), information collection title, and the OMB control number in any correspondence.

FOR FURTHER INFORMATION CONTACT: Direct requests for additional information regarding the collection listed in this notice, including requests for copies of the proposed collection instrument and supporting documents to Andrea Battista who may be reached on 202-663-3136 or at battistaal@state.gov.

SUPPLEMENTARY INFORMATION:

• Title of Information Collection: Application for Temporary Import of Defense Articles.

• OMB Control Number: 1405-0013.

• Type of Request: Emergency Processing.

• Originating Office: PM/DDTC.

• Form Number: DSP-61.

• Respondents: Business, Nonprofit Organizations, and Individuals.

• Estimated Number of Respondents: 204.

• Estimated Number of Responses: 1,103.

• Average Time per Response: 30 minutes.

• Total Estimated Burden Time: 552 hours.

• Frequency: On Occasion.

• Obligation to Respond: Required in Order to Obtain or Retain Benefits.

• Title of Information Collection: Application/License for Temporary Export of Unclassified Defense Articles.

• OMB Control Number: 1405-0023.

• Type of Request: Emergency Processing.

• Originating Office: PM/DDTC.

• Form Number: DSP-73.

• Respondents: Business, Nonprofit Organizations, and Individuals.

• Estimated Number of Respondents: 470.

• Estimated Number of Responses: 3,222.

• Average Time per Response: 1 hour.

• Total Estimated Burden Time: 3,222 hours.

• Frequency: On Occasion.

• Obligation to Respond: Required in Order to Obtain or Retain Benefits.

• Title of Information Collection: Application/License for Permanent/Temporary Export or Temporary Import of Classified Defense Articles and Related Classified Technical Data.

• OMB Control Number: 1405-0022.

• Type of Request: Emergency Processing.

• Originating Office: PM/DDTC.

• Form Number: DSP-85.

• Respondents: Business, Nonprofit Organizations, and Individuals.

• Estimated Number of Respondents: 100.

• Estimated Number of Responses: 419.

• Average Time per Response: 30 minutes.

• Total Estimated Burden Time: 210 hours.

• Frequency: On Occasion.

• Obligation to Respond: Required in Order to Obtain or Retain Benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The export, temporary import, and brokering of defense articles, including technical data, and defense services are authorized by The Department of State, Directorate of Defense Trade Controls (DDTC) in accordance with the International Traffic in Arms Regulations (“ITAR,” 22 CFR parts 120-130) and section 38 of the Arms Export Control Act. Those who manufacture, broker, export, or temporarily import defense articles, including technical data, or defense services must register with the Department of State and obtain a decision from the Department as to whether it is in the interests of U.S. foreign policy and national security to approve covered transactions. Also, registered brokers must submit annual reports regarding all brokering activity that was transacted, and registered manufacturers and exporter must maintain records of defense trade activities for five years.

• 1405-0013, Application/License for Temporary Import of Unclassified Defense Articles: In accordance with part 123 of the ITAR, any person who intends to temporarily import unclassified defense articles must obtain DDTC authorization prior to import. “Application/License for Temporary Import of Unclassified Defense Articles” (Form DSP-61) is the licensing vehicle typically used to obtain permission for the temporary import of unclassified defense articles covered by USML. This form is an application that, when completed and approved by PM/DDTC, Department of State, constitutes the official record and authorization for the temporary commercial import of unclassified U.S. Munitions List articles, pursuant to the Arms Export Control Act and the International Traffic in Arms Regulations.

• 1405-0022, Application/License for Permanent/Temporary Export or Temporary Import of Classified Defense Articles and Related Classified Technical Data: In accordance with part 123 of the ITAR, any person who intends to permanently export, temporarily export, or temporarily import classified defense articles, including classified technical data must first obtain DDTC authorization. “Application/License for Permanent/Temporary Export or Temporary Import of Classified Defense Articles and Related Classified Technical Data” (Form DSP-85) is used to obtain permission for the permanent export, temporary export, or temporary import of classified defense articles, including classified technical data, covered by the USML. This form is an application that, when completed and approved by PM/DDTC, Department of State, constitutes the official record and authorization for all classified commercial defense trade transactions, pursuant to the Arms Export Control Act and the International Traffic in Arms Regulations.

• 1405-0023, Application/License for Temporary Export of Unclassified Defense Articles: In accordance with part 123 of the ITAR, any person who intends to temporarily export unclassified defense articles must DDTC authorization prior to export. “Application/License for Temporary Export of Unclassified Defense Articles” (Form DSP-73) is the licensing vehicle typically used to obtain permission for the temporary export of unclassified defense articles covered by the USML. This form is an application that, when completed and approved by PM/DDTC, Department of State, constitutes the official record and authorization for the temporary commercial export of unclassified U.S. Munitions List articles, pursuant to the Arms Export Control Act and the International Traffic in Arms Regulations.

Methodology

This information collection may be sent to the Directorate of Defense Trade Controls via the following methods: Electronically or mail.

Additional Information

The aforementioned collections may be impacted by a proposed rule published in the Federal Register on May 24, 2018 (83 FR 24198) (RIN 1400-AE30). If the rule becomes final, changes will be made to the forms' drop down menus to allow for the updated USML subcategories to be selected by an applicant.

Anthony M. Dearth,
Chief of Staff, Directorate of Defense Trade Controls, Department of State.

[FR Doc. 2019-01983 Filed 2-11-19; 8:45 am]

BILLING CODE 4710-25-P